SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA; Fax: (202) 395-6974.

(SSA), Social Security Administration, DCFAM, Attn: Reports Clearance Officer, 1338 Annex Building, 6401 Security Blvd., Baltimore, MD 21235; Fax: (410) 965-6400.

I. The information collections listed below are pending at SSA and will be submitted to OMB within 60 days from the date of this notice. Therefore, your comments should be submitted to SSA within 60 days from the date of this publication. You can obtain copies of the collection instruments by calling the SSA Reports Clearance Officer at (410) 965-0454 or by writing to the address listed above.

1. Record of SSI Inquiry—20 CFR 416.345—0960-0140.

Form SSA-3462 is completed by SSA personnel via telephone or personal interview, and it is used to determine potential eligibility for Supplemental Security Income (SSI) benefits. The respondents are individuals who inquire about SSI eligibility for themselves or someone else.

Type of Request: Extension of an OMB-approved information collection.

Number of Respondents: 2,134,100.

Frequency of Response: 1.

Average Burden per Response: 5 minutes.

Estimated Annual Burden: 177,842 hours.

2. The Ticket to Work and Self-Sufficiency Program—20 CFR 411.160-.730—0960-0644.

The Ticket to Work and Self-Sufficiency program allows individuals with disabilities who are receiving disability payments to work towards decreased dependence on government cash benefits programs without jeopardizing their benefits during the transition period to employment. The program allows disability payment recipients to choose a provider from an employment network (EN), who will guide these beneficiaries in obtaining, regaining, and maintaining self-supporting employment. 20 CFR 411.160-.730 of the Code of Federal Regulations discusses the rules governing this program. The respondents are individuals entitled to Social Security benefits based on disability or individuals entitled to SSI based on disability; program managers; EN contractors; and State vocational rehabilitation agencies.

Type of Request: Extension of an OMB-approved information collection.

CFR sections | Number of respondents | Frequency of response | Average burden per response (minutes) | Estimated annual burden (hours)
411.140(c), [X-refer sections 411.145, 411.150, 411.325(a), (b), (c), & (d), 411.320(f)] | 70,000 | 2/year | 60 | 140,000
411.325(e), [X-refer section 411.395(b)] | 70,000 | 12/year | 60 | 840,000
411.325(f), [X-refer section 411.395(a)] | 60,000 | 1/year | 5 | 5,000
411.190 (a), [X-refer section 411.195] | 250 | 1/year | 30 | 125
411.220(a)(1) | 55 | Varies | 30 | 28
441.245(b)(1) | 12,000 | 1 | 1 | 200
411.325(d) | 25 | 1 | 480 | 200
411.365 | 82 | 1 | 240 | 328
411.575, [X-refer section 411.500] | 6,000 | 1 | 30 | 3,000
411.605(b), [X-refer section 411.610] | 27,000 | Varies | 5 | 2,250
411.435(c) | 100 | Once | 60 | 100
411.615 | 1,000 | Once | 60 | 1,000
411.625 | 50 | Once | 60 | 50
411.210(b) | 2,000 | Once | 30 | 1,000
411.590(b) | 100 | Once | 60 | 100
411.655 | 1 | Once/year | 120 | 2
411.200 | 150 | 1/monthly | 15 | 450
Total annual respondents | 248,813 |  | Total annual burden hours | 993,833

Total Estimated Annual Burden: 993,833 hours.

II. The information collections listed below have been submitted to OMB for clearance. Your comments on the information collections would be most useful if received by OMB and SSA within 30 days from the date of this publication. You can obtain a copy of the OMB clearance packages by calling the SSA Reports Clearance Officer at (410) 965-0454, or by writing to the address listed above.

1. Help America Vote Act—0960-NEW.

Background

On October 29, 2002, President George W. Bush signed into law H.R. 3295, the Help America Vote Act (HAVA) of 2002, which mandates the verification of newly registered voters. HAVA places certain requirements upon SSA in terms of verifying information to be used for each State's voter registration process. SSA's role in HAVA is defined in Section 303 of the law. Section 303 requires each State to implement a computerized statewide voter registration list and to verify voter information with the State motor vehicle administration (MVA) records, or if none exist, with SSA records.

HAVA Information Collection

Individuals registering to vote must provide their driver's license number to the State election agency. If they have no driver's license or State-issued identity card they must supply the last four digits of the Social Security number (SSN). The State election agency will forward the new registrant name, date of birth, and the last four digits of the SSN to the State MVA.

SSA requires State MVAs to use the American Association of Motor Vehicle Administrations (AAMVA) as a consolidation point for data transfer.

The data, as input by the MVA, routes the applicant's information to the AAMVA network hub. AAMVA forwards the transaction to SSA's HAVA verification system. The result will be returned from SSA to the AAMVA hub for distribution to the State MVA.

The respondents to the HAVA collection are the various State MVAs responsible for verifying voter registration information.

Type of Request: New Information Collection.

Number of Respondents: 50 State MVAs.

Total Annual Responses: *1,000,000.

Average Burden per Response: 2 minutes.

Estimated Annual Burden: 33,333 hours.

[*The actual number of responses per State will vary based on population. Therefore, the total number of responses is based on data of new voter applications received by all 50 States in 1999-2000.]

2. Public Understanding Measurement System (PUMS)—0960-0612.

As required by Section 2(b) of the Government Performance and Results Act, which provides that Agencies establish the means for measuring their progress in achieving agency-level goals, SSA established the PUMS in 1998 as a tool for measuring its performance in meeting its strategic objectives in the area of public knowledge about and understanding of the Social Security program. The instrument used in PUMS is a national phone survey of adult Americans (age 18 and over) conducted annually for SSA by a professional polling organization. The PUMS survey instrument is designed to collect knowledge data from key populations toward which SSA has targeted education and outreach programs. Additionally, the survey is intended to assure a valid knowledge measure for key populations at the national level. This information is a crucial step in making SSA more focused and effective in its communication programs. The respondents are randomly selected adults residing in the United States.

Type of Request: Extension of an OMB-approved information collection.

Number of Respondents: 1,400.

Frequency of Response: 1.

Average Burden per Response: 15 minutes.

Estimated Annual Burden: 350 hours.

3. Railroad Employment Questionnaire—20 CFR 404.1401, 404.1406-.1408—0960-0078.

SSA uses form SSA-671 to secure sufficient information to effect the required coordination with the Railroad Retirement Board (RRB) for Social Security claims processing. It is completed whenever claimants give indications of having been employed in the railroad industry. The respondents are applicants for Social Security benefits, who have had railroad employment, or dependents of railroad workers.

Type of Request: Extension of an OMB-approved information collection.

Number of Respondents: 125,000.

Frequency of Response: 1.

Average Burden Per Response: 5 minutes.

Estimated Annual Burden: 10,417 hours.

4. Statement of Income and Resources—20 CFR 416.207, 416.301-.310, 416.704 and 416.708—0960-0124.

The information collected on form SSA-8010-BK is used in SSI claims and redeterminations to obtain information about the income and resources of: ineligible spouses, parents/spouses of parents, and children living in the claimant's/beneficiary's household; essential persons; and sponsors of aliens (including spouses of sponsors who live with the sponsor). The information is needed to make initial or continuing eligibility determinations for SSI claimants/beneficiaries who are subject to deeming. If eligible, the information is used to determine the amount of the SSI payment. The respondents are persons whose income and resources must be considered in determining the eligibility of SSI claimants or beneficiaries.

Type of Request: Revision of an OMB-approved information collection.

Number of Respondents: 341,000.

Frequency of Response: 1.

Average Burden Per Response: 26 minutes.

Estimated Annual Burden: 147,767 hours.

5. Government Pension Questionnaire—20 CFR 404.408a—0960-0160.

The Social Security Act and the Code of Federal Regulations provide that an individual receiving spouse's benefits and concurrently receiving a Government pension, based on the individual's own earnings, may have the Social Security benefit amount reduced by two-thirds of the pension amount. The data collected on form SSA-3885 is used by SSA to determine if the individual's Social Security benefit will be reduced, the amount of the reduction, and if one of the exceptions in 20 CFR 404.408a applies. The respondents are individuals who are receiving, or will receive, Social Security spouse's benefits and also receive their own Government pension.

Type of Request: Extension of an OMB-approved information collection.

Number of Respondents: 76,000.

Frequency of Response: 1.

Average Burden Per Response: 12.5 minutes.

Estimated Annual Burden: 15,833 hours.

6. Teacher Questionnaire (SSA-5665-BK); Request for Administrative Information (SSA-5666-BK)—20 CFR 416.924a and 20 CFR 404.1520—0960-0646.

If an individual who is claiming disability under Title XVI or Title II is currently, or has recently been, in an education program, SSA must obtain information about his or her functioning from teachers, instructors, and other education personnel who have the opportunity to observe the individual on a day-to-day basis. Educational programs are an important source of evidence and often provide formal assessment results and other kinds of information from a variety of disciplines. Evidence obtained from educational programs varies a great deal, however, in format, content, reliability, and usefulness. The need exists, therefore, for an information collection instrument that will assure a degree of uniformity and consistency in the quantity and quality of information received about a claimant's (or beneficiary's/recipient's) impairment-related limitations.

SSA-5665-BK

Type of Request: Revision of OMB-approved information collection.

Number of Respondents: 557,000.

Frequency of Response: 1.

Average Burden Per Response: 20 minutes.

Estimated Annual Burden: 185,667 hours.

SSA-5666

Type of Request: Revision of OMB-approved information collection.

Number of Respondents: 555,000.

Frequency of Response: 1.

Average Burden Per Response: 15 minutes.

Estimated Annual Burden: 138,750 hours.

Dated: April 19, 2005.
Elizabeth A. Davidson,
Reports Clearance Officer, Social Security Administration.

[FR Doc. 05-8180 Filed 4-22-05; 8:45 am]

BILLING CODE 4191-02-P